DEPARTMENT OF HOUSING AND URBAN DEVELOPMENT

[Docket No. FR-4638-N-02]

Notice of Certain Operating Cost Adjustment Factors

AGENCY: Office of the Secretary, HUD.

ACTION: Publication of Fiscal Year (FY) 2001 Operating Cost Adjustment Factors (OCAFs) for Section 8 rent adjustments at contract renewal under section 524 of the Multifamily Assisted Housing Reform and Affordability Act of 1997 (MAHRA), as amended by the Preserving Affordable Housing for Senior Citizens and Families into the 21st Century Act of 1999, and under the Low-Income Housing Preservation and Resident Homeownership Act of 1990 (LIHPRHA) Projects assisted with Section 8 Housing Assistance Payments.

SUMMARY: This notice that establishes factors used in calculating rent adjustments under section 524 of the Multifamily Assisted Housing Reform and Affordability Act of 1997 (MAHRA) as amended by the Preserving Affordable Housing for Senior Citizens and Families into the 21st Century Act of 1999, and under the Low-Income Housing Preservation and Resident Homeownership Act of 1990 (LIHPRHA), was published on January 10, 2001, but the appendix to the notice was inadvertently not published. This notice is therefore republished with the appendix.

EFFECTIVE DATE: January 10, 2001.

FOR FURTHER INFORMATION CONTACT: Willie Spearmon, Director, Office of Housing Assistance and Grant Administration, Department of Housing and Urban Development, 451 Seventh Street, SW, Washington, DC 20410; telephone (202) 708-3000; (This is not a toll-free number). Hearing or speech-impaired individuals may access this number via TTY by calling the toll-free Federal Information Relay Service at 1-800-877-8339.

SUPPLEMENTARY INFORMATION: This notice was originally published on January 10, 2001 (66 FR 1997), but the appendix to the notice was inadvertently not published. This notice is therefore republished with the appendix.

I. Operating Cost Adjustment Factors (OCAFs)

Section 514(e)(2) of the FY 1998 HUD Appropriations Act requires HUD to establish guidelines for rent adjustments based on an operating cost adjustment (OCAF) factor. The legislation requiring HUD to establish OCAFs for LIHPRHA projects and projects with contract renewals under section 524 of MAHRA is similar in wording and intent. HUD has therefore developed a single factor to be applied uniformly to all projects utilizing OCAFs as the method by which rents are adjusted.

Additionally, section 524 of the Act gives HUD broad discretion in setting OCAFs—referring simply to “operating cost factors established by the Secretary.” The sole exception to this grant of authority is a specific requirement that application of an OCAF shall not result in a negative rent adjustment. OCAFs are to be applied uniformly to all projects utilizing OCAFs as the method by which rents are adjusted upon expiration of the term of the contract. OCAFs are applied to project contract rent less debt service.

An analysis of cost data for FHA-insured projects showed that their operating expenses could be grouped into nine categories: wages, employee benefits, property taxes, insurance, supplies and equipment, fuel oil, electricity, natural gas, and water and sewer. Based on an analysis of these data, HUD derived estimates of the percentage of routine operating costs that were attributable to each of these nine expense categories. Data for projects with unusually high or low expenses due to unusual circumstances were deleted from analysis.

States are the lowest level of geographical aggregation at which there are enough projects to permit statistical analysis. Additionally, no data were available for the Western Pacific Islands. Data for Hawaii was therefore used to generate OCAFs for these areas.

The best current measures of cost changes for the nine cost categories were selected. The only categories for which current data are available at the State level are for fuel oil, electricity, and natural gas. Current price change indices for the other six categories are only available at the national level. The Department had the choice of using dated State-level data or relatively current national data. It opted to use national data rather than data that would be two or more years older (e.g., the most current local wage data are for 1996). The data sources for the nine cost indicators selected used were as follows:

Labor Costs—6/99 to 6/00 Bureau of Labor Statistics (BLS), “Employment Cost Index, Private Sector Wages and Salaries Component at the National Level.”

Employment Benefit Costs—6/99-6/00 (BLS), “Employment Cost Index, Employee Benefits at the National Level.”

Property Taxes—6/99-6/00 (BLS), “Consumer Price Index, All Items Index.”

Goods, Supplies, Equipment—6/99-6/00 (BLS), “Producer Price Index, Finished Goods Less Food and Energy.”

Insurance—6/99-6/00 (BLS), “Consumer Price Index, Tenant and Household Insurance.”

Fuel Oil—Energy Information Agency, Petroleum Marketing Annual 1999, Table 18, “Prices of No.2 Distillate to Residences by PAD District and Selected States,” (Petroleum Administration for Defense District (PADD) average changes were used for the States with too little fuel oil consumption to have values.)

Electricity—Energy Information Agency, Electric Power Annual Volume 1, 1999, Table 22 “Retail Sales of Electricity, Revenue and Average Revenue per Kilowatt-hour (and RSEs) by U.S. Electric Utilities to Ultimate Consumers by Census Division and State, 1998-1999—Residential.”

Natural Gas—Energy Information Agency, Natural Gas Annual, 1999, Table 22, “Average Price of Natural Gas Delivered to Residential Consumers by State, 1995-1999 (Preliminary).”

Water and Sewer—6/99-6/00, (BLS), “Consumer Price Index—Detailed Report.”

The sum of the nine cost components equals 100 percent of operating costs for purposes of OCAF calculations. To calculate the OCAFs, the selected inflation factors are multiplied by the relevant State-level operating cost percentages derived from the previously referenced analysis of FHA insured projects. For instance, if wages in Virginia comprised 50 percent of total operating cost expenses and wages increased by 4 percent from June 1999 to June 2000, the wage increase component of the Virginia OCAF for FY 2001 would be 2.0 percent (4% × 50%). This 2.0 percent would then be added to the increases for the other eight expense categories to calculate the FY 2000 OCAF for Virginia. These types of calculations were made for each State for each of the nine cost components, and are included as the Appendix to this Notice.

II. MAHRA OCAF Procedure

The Multifamily Assisted Housing Reform and Affordability Act of 1997, Title V of Public Law 105-65 (approved October 7, 1997), 42 U.S.C. 1437f (MAHRA) as amended by the Preserving Affordable Housing for Senior Citizens and Families into the 21st Century Act of 1999, created the Mark-to-Market Program to reduce the cost of Federal housing assistance, enhance HUD's administration of such assistance, and to ensure the continued affordability of units in certain multifamily housing projects. Section 524 of MAHRA authorizes renewal of Section 8 project-based assistance contracts for projects without Restructuring Plans under the Mark-to-Market Program, including renewals that are not eligible for Plans and those for which the owner does not request Plans. Renewals must be at rents not exceeding comparable market rents except for certain projects. For Section 8 Moderate Rehabilitation projects, other than single room occupancy projects (SROs) under the Stewart B. McKinney Homeless Assistance Act (McKinney Act, 42 U.S.C. 11301 et seq.), that are eligible for renewal under section 524(b)(3) of MAHRA, the renewal rents are required to be set at the lesser of: (1) The existing rents under the expiring contract, as adjusted by the OCAF; (2) fair market rents (less any amounts allowed for tenant-purchased utilities; or (3) comparable market rents for the market area.

III. Findings and Certifications

Environmental Impact

This notice sets forth rate determinations and related external administrative requirements and procedures that do not constitute a development decision affecting the physical condition of specific project areas or building sites. Accordingly, under 24 CFR 50.19(c)(6), this notice is categorically excluded from environmental review under the National Environmental Policy Act of 1969 (42 U.S.C. 4321).

Executive Order 13132, Federalism

This notice does not have federalism implications and does not impose substantial direct compliance costs on State and local governments or preempt State law within the meaning of Executive Order 13132 (entitled “Federalism”).

Catalog of Federal Domestic Assistance Number. The Catalog of Federal Domestic Assistance Number for this program is 14.187.
Dated: January 10, 2001.
Andrew Cuomo,
Secretary.

Appendix—FY 2001 Operating Cost Adjustment Factors (OCAF) for Rent Adjustments at Section 8 Contract Renewal
[In percent]
State | FY 2001 operating cost adjustment factor
ALABAMA | 3.31
ALASKA | 2.48
ARIZONA | 3.45
ARKANSAS | 3.19
CALIFORNIA | 2.99
COLORADO | 3.20
CONNECTICUT | 2.88
DELAWARE | 2.84
DISTRICT OF COLUMBIA | 2.98
FLORIDA | 3.09
GEORGIA | 1.68
HAWAII | 3.10
IDAHO | 3.23
ILLINOIS | 2.72
INDIANA | 2.81
IOWA | 2.79
KANSAS | 2.88
KENTUCKY | 2.89
LOUISIANA | 3.08
MAINE | 2.89
MARYLAND | 3.19
MASSACHUSETTS | 2.64
MICHIGAN | 3.00
MINNESOTA | 3.22
MISSISSIPPI | 2.96
MISSOURI | 2.97
MONTANA | 3.54
NEBRASKA | 3.08
NEVADA | 3.21
NEW HAMPSHIRE | 2.58
NEW JERSEY | 3.31
NEW MEXICO | 2.53
NEW YORK | 2.79
NORTH CAROLINA | 3.25
NORTH DAKOTA | 2.90
OHIO | 2.87
OKLAHOMA | 3.03
OREGON | 3.12
PENNSYLVANIA | 1.94
RHODE ISLAND | 2.35
SOUTH CAROLINA | 3.24
SOUTH DAKOTA | 3.25
TENNESSEE | 3.12
TEXAS | 2.79
UTAH | 2.58
VERMONT | 3.91
VIRGINIA | 3.00
WASHINGTON | 3.26
WEST VIRGINIA | 3.11
WISCONSIN | 3.24
WYOMING | 3.07
PACIFIC ISLANDS | 2.76
PUERTO RICO | 3.21
VIRGIN ISLANDS | 2.86
UNITED STATES AVERAGE | 2.85

[FR Doc. 01-1396 Filed 1-17-01; 8:45 am]

BILLING CODE 4210-33-P